DEPARTMENT OF THE TREASURY

Financial Crimes Enforcement Network; Agency Information Collection Activities; Proposed Collection; Comment Request

AGENCY: Financial Crimes Enforcement Network (“FinCEN”), Treasury.

ACTION: Notice and request for comments.

SUMMARY: In order to comply with the requirements of the Paperwork Reduction Act of 1995, FinCEN intends to submit the information collection addressed in this notice for a three-year extension of approval by the Office of Management and Budget (“OMB”). Prior to submission of the extension request, FinCEN is soliciting comment on the information collection in FinCEN Issuance 98-1, as extended (the conditional exception to the application of 31 CFR 103.33(g)).

DATES: Written comments should be received on or before December 24, 2001 to be assured of consideration.

ADDRESSES: Direct all written comments to: Office of Chief Counsel, Financial Crimes Enforcement Network, Department of the Treasury, P.O. Box 1618, Vienna, VA 22183-1618, Attention: PRA Comments—CIF Exception. Comments also may be submitted by electronic mail to the following Internet address: “regcomments@fincen.treas.gov” with the caption in the body of the text,­“Attention: PRA Comments—CIF Exception.”

FOR FURTHER INFORMATION CONTACT: Requests for additional information should be directed to Stacie A. Larson (703) 905-3590, Office of Chief Counsel, FinCEN, or Cynthia L. Clark, Deputy Chief Counsel, FinCEN (703) 905-3590. A copy of the issuance may be obtained from http://www.access.gop.gov/su_docs/aces/aces140.html.

SUPPLEMENTARY INFORMATION: The Bank Secrecy Act, Titles I and II of Pub. L. 91-508, as amended, codified at 12 U.S.C. 1829b, 12 U.S.C. 1951-1959, and 31 U.S.C. 5311-5330, authorizes the Secretary of the Treasury, inter alia, to issue regulations requiring records and reports that are determined to have a high degree of usefulness in criminal, tax, and regulatory matters. Regulations implementing Title II of the Bank Secrecy Act (codified at 31 U.S.C. 5311-5330) appear at 31 CFR part 103. The authority of the Secretary to administer Title II of the Bank Secrecy Act has been delegated to the Director of FinCEN.

In accordance with the requirements of the Paperwork Reduction Act of 1995, 44 U.S.C. 3506(c)(2)(A), and its implementing regulations, the following information is presented concerning the information collections below. An agency may not conduct or sponsor, and a person is not required to respond to, a collection of information unless it displays a valid control number assigned by OMB.

Title: Conditional Exception to the Application of 31 CFR 103.33(g).

OMB Number: 1506-0008.

Abstract: Under 31 CFR 103.33(g) (the “Travel Rule”) financial institutions must include certain information in transmittal orders relating to the transmittal of funds of $3,000 or more. In 1998, FinCEN granted a conditional exception (the “CIF Exception”)¹ to the strict operation of the Travel Rule.² The CIF exception requires, among other things, that a financial institution include on a transmittal order a question mark (“?”) after the name on the transmittal order whenever that name is other than the transmittor's true name.

¹ FinCEN Issuance 98-1, 63 FR 3640, January 26, 1998.

² FinCEN extended the CIF Exception in 1999 (FinCEN Issuance 99-1, 64 FR 41041, July 29, 1999) and again in 2001 (FinCEN Issuance 2001-1, 66 FR 32746, June 18, 2001).

The information collection addressed in this notice is mandatory. The use of the question mark symbol after a name that is not the true name of the transmittor will assist law enforcement authorities in the prevention and detection of money laundering. If a transmittal order is being examined by a law enforcement agency and the question mark symbol is included, the agency will then know to ask the financial institution for the transmittor's true name. All records required to be maintained under the BSA must be retained for five years.

Current Action: There is no change to the existing information collection.

Type of Review: Extension of a currently approved information collection.

Affected Public: Businesses or for-profit institutions, and non-profit institutions.

Burden: The estimated number of transmittal numbers with the question mark symbol is 5,000. The estimated annual reporting burden is 250 hours, and the estimated annual recordkeeping burden is 1,250 hours.

FinCEN specifically invites comments on the following subjects: (a) Whether the proposed collection of information is necessary for the proper performance of the mission of FinCEN, including whether the information shall have practical utility; (b) the accuracy of FinCEN's estimate of the burden of the collection of information; (c) ways to enhance the quality, utility, and clarity of the information to be collected; (d) ways to minimize the burden of the collection of information on respondents, including through the use of automated collection techniques or other forms of information technology; (e) estimates of capital or start-up costs and costs of operation, maintenance, and purchase of services to provide information.

Comments concerning the accuracy of the burden estimate and suggestions for reducing the burden should be directed to the Office of Management and Budget, Attention: Desk Officer for the Treasury Department, Office of Information and Regulatory Affairs, Washington, DC 20503.

Dated: October 16, 2001.
James F. Sloan,
Director, Financial Crimes Enforcement Network.

[FR Doc. 01-26582 Filed 10-22-01; 8:45 am]

BILLING CODE 4820-03-P